ENVIRONMENTAL PROTECTION AGENCY

40 CFR Part 52

[EPA-R09-OAR-2017-0332; FRL-9967-56-Region 9]

Approval of California Air Plan Revisions, Placer County and Ventura County Air Pollution Control Districts

AGENCY: Environmental Protection Agency (EPA).

ACTION: Proposed rule.

SUMMARY: The Environmental Protection Agency (EPA) is proposing to approve revisions to the Placer County Air Pollution Control District (PCAPCD) and Ventura County Air Pollution Control District (VCAPCD) portions of the California State Implementation Plan (SIP). These revisions concern emissions of oxides of nitrogen (NOX) from incinerators in the PCAPCD and previously unregulated types of fuel burning equipment in the VCAPCD. We are proposing to approve local rules to regulate these emission sources under the Clean Air Act (CAA or the Act). We are taking comments on this proposal and plan to follow with a final action.

DATES: Any comments must arrive by October 12, 2017.

ADDRESSES: Submit your comments, identified by Docket ID No. EPA-R09-OAR-2017-0332 at http://www.regulations.gov. For comments submitted at Regulations.gov, follow the online instructions for submitting comments. Once submitted, comments cannot be removed or edited from Regulations.gov. For either manner of submission, the EPA may publish any comment received to its public docket. Do not submit electronically any information you consider to be Confidential Business Information or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www.epa.gov/dockets/commenting-epa-dockets.

FOR FURTHER INFORMATION CONTACT: Kevin Gong, EPA Region IX, (415) 972-3073, Gong.Kevin@epa.gov.

SUPPLEMENTARY INFORMATION: Throughout this document, “we,” “us” and “our” refer to the EPA.

Table of Contents

I. The State's Submittal

A. What rules did the State submit?

B. Are there other versions of these rules?

C. What is the purpose of the submitted rules?

II. The EPA's Evaluation and Action

A. How is the EPA evaluating the rules?

B. Do the rules meet the evaluation criteria?

C. EPA Recommendations To Further Improve the Rules

D. Public Comment and Proposed Action

III. Incorporation by Reference

IV. Statutory and Executive Order Reviews

I. The State's Submittal

A. What rules did the State submit?

Table 1 lists the rules addressed by this proposal with the dates that they were adopted by the local air agencies and submitted by the California Air Resources Board.

Table 1—Submitted Rules
Local agency | Rule No. | Rule title | Adopted or amended | Submitted
PCAPCD | 206 | Incinerator Burning | 10/13/2016 | 01/24/2017
VCAPCD | 74.34 | NOX Reductions from Miscellaneous Sources | 12/13/2016 | 2/24/2017

On April 17, 2017, the EPA determined that the submittal for PCAPCD Rule 206 met the completeness criteria in 40 CFR part 51 Appendix V, which must be met before formal EPA review. On August 2, 2017, the EPA determined that the submittal for VCAPCD Rule 74.34 also met the completeness criteria.

B. Are there other versions of these rules?

We approved an earlier version of PCAPCD Rule 206 into the SIP on November 15, 1978 (43 FR 53035) for the portions of the district regulating the Mountain Counties Air Basin and Sacramento Valley Air Basin. We approved another earlier version of PCAPCD Rule 206 into the SIP on August 21, 1979 (46 FR 27115) for the portion of the district regulating the Lake Tahoe Air Basin. There are no previous versions of VCAPCD Rule 74.34 in the SIP.

C. What is the purpose of the submitted rules?

NOX helps produce ground-level ozone, smog and particulate matter, which harm human health and the environment. Section 110(a) of the CAA requires states to submit regulations that control NOX emissions. PCAPCD Rule 206 modernizes the requirements and limits for incineration units in Placer County. VCAPCD Rule 74.34 establishes emission limits and operational requirements for sources of NOX that were previously unregulated by a prohibitory rule (including kilns, dryers, and ovens) for Ventura County. The EPA's technical support documents (TSDs) have more information about these rules.

II. The EPA's Evaluation and Action

A. How is the EPA evaluating the rules?

SIP rules must be enforceable (see CAA section 110(a)(2)), must not interfere with applicable requirements concerning attainment and reasonable further progress or other CAA requirements (see CAA section 110(l)), and must not modify certain SIP control requirements in nonattainment areas without ensuring equivalent or greater emissions reductions (see CAA section 193).

Generally, SIP rules must require Reasonably Available Control Technology (RACT) for each major source of NOX in ozone nonattainment areas classified as moderate or above (see CAA sections 182(b)(2) and 182(f)). The PCAPCD regulates an ozone nonattainment area classified as “Severe” for the 2008 and 1997 8-hour ozone National Ambient Air Quality Standards (NAAQS) and the 1-hour ozone NAAQS. The VCAPCD regulates an ozone nonattainment area classified as “Serious” for the 2008 and 1997 8-hour ozone NAAQS and “Severe” for the 1-hour ozone NAAQS (40 CFR 81.305). Therefore, these rules must implement RACT in their respective counties.

Guidance and policy documents that we use to evaluate enforceability, revision/relaxation and rule stringency requirements for the applicable criteria pollutants include the following:

1. “Issues Relating to VOC Regulation Cutpoints, Deficiencies, and Deviations,” EPA, May 25, 1988 (the Bluebook, revised January 11, 1990).

2. “Guidance Document for Correcting Common VOC & Other Rule Deficiencies,” EPA Region 9, August 21, 2001 (the Little Bluebook).

3. “NOX Emissions from Industrial/Commercial/Institutional (ICI) Boilers,” EPA OAQPS, March 1994, EPA-453/R-94-022.

4. “NOX Emissions from Process Heaters,” EPA OAQPS, September 1993, EPA-453/R-93-034 1993/09.

5. “Standards of Performance for Commercial and Industrial Solid Waste Incineration Units,” 40 CFR part 60, subpart CCCC.

6. “Standards of Performance for Other Solid Waste Incineration Units for Which Construction is Commenced After December 9, 2004, or for Which Modification or Reconstruction is Commenced on or After June 16, 2006,” 40 CFR part 60, subpart EEEE.

B. Do the rules meet the evaluation criteria?

VCAPCD Rule 74.34 adopts emission limits, monitoring, recordkeeping, and reporting requirements for NOX sources that were previously unregulated by a SIP-approved rule, resulting in an estimated NOX reduction of 40 tons per year. PCAPCD Rule 206 updates control requirements for incinerator units in the county to meet SIP requirements to implement RACT. For these reasons, we conclude that these rules are consistent with CAA requirements and relevant guidance regarding enforceability, RACT, and SIP revisions. The TSDs have more information on our evaluation.

C. EPA Recommendations To Further Improve the Rules

The TSDs describe additional rule revisions that we recommend for the next time the local agencies modify the rules.

D. Public Comment and Proposed Action

As authorized in section 110(k)(3) of the Act, the EPA proposes to fully approve the submitted rules because they fulfill all relevant requirements. We will accept comments from the public on this proposal until October 12, 2017. If we take final action to approve the submitted rules, our final action will incorporate these rules into the federally enforceable SIP.

III. Incorporation by Reference

In this rule, the EPA is proposing to include in a final EPA rule regulatory text that includes incorporation by reference. In accordance with requirements of 1 CFR 51.5, the EPA is proposing to incorporate by reference the PCAPCD and VCAPCD rules described in Table 1 of this preamble. The EPA has made, and will continue to make, these materials available through www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Reporting and recordkeeping requirements.

Authority: 42 U.S.C. 7401 et seq.

Dated: August 30, 2017.
Alexis Strauss,
Acting Regional Administrator, Region IX.

[FR Doc. 2017-19213 Filed 9-11-17; 8:45 am]

BILLING CODE 6560-50-P